DEPARTMENT OF LABOR

Employment and Training Administration

[TA-W-55,955]

Atlas Copco Compressors Inc., Holyoke, MA; Notice of Termination of Investigation

Pursuant to section 221 of the Trade Act of 1974, as amended, an investigation was initiated on November 9, 2004, in response to a worker petition filed on behalf of workers at Atlas Copco Compressors Inc., Holyoke, Massachusetts.

The petitioners have requested that the petition be withdrawn. Consequently, the investigation has been terminated.

Signed in Washington, DC this 19th day of November, 2004.
Richard Church,
Certifying Officer, Division of Trade Adjustment Assistance.

[FR Doc. E4-3518 Filed 12-6-04; 8:45 am]

BILLING CODE 4510-30-P